FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than September 15, 2008.

A. Federal Reserve Bank of St. Louis (Glenda Wilson, Community Affairs Officer) P.O. Box 442, St. Louis, Missouri 63166-2034:

1. Twin Lakes Bancshares, Inc., Flippin, Arkansas, has applied to become a bank holding company by acquiring 100 percent of the voting shares of Twin Lakes Community Bank, Flippin, Arkansas.

2. First National Corporation of Wynne, Wynne, Arkansas, to acquire 35 percent of the voting shares of Twin Lakes Bancshares, Inc., and thereby retain voting shares of Twin Lakes Community Bank, both of Flippin, Arkansas.

3. Twin Lakes Bancshares, Inc., has applied to acquire 100 percent of the voting shares of Smith Associated Banking Corporation, Hot Springs, Arkansas, and thereby indirectly acquire voting shares of Bank of Salem, Salem, Arkansas, immediately following the bank holding company formation.

In connection with this application, First National Corporation of Wynne, also has applied to indirectly acquire Smith Associated Banking Corporation, Hot Springs, Arkansas, and thereby indirectly acquire Bank of Salem, Salem, Arkansas.

B. Federal Reserve Bank of Dallas (E. Ann Worthy, Vice President) 2200 North Pearl Street, Dallas, Texas 75201-2272:

1. MOW/RPW Holdings II, LLC, and MOW/RPW II, Ltd., both of Victoria, Texas, to acquire up to 21.11 percent of the voting shares of FVNB Corp, Victoria, Texas, and thereby indirectly acquire voting shares of FVNB Delaware Corp., Wilmington, Delaware, and First Victoria National Bank, Victoria, Texas.

Board of Governors of the Federal Reserve System, August 15, 2008.
Robert deV. Frierson,
Deputy Secretary of the Board.

[FR Doc. E8-19293 Filed 8-20-08; 8:45 am]

BILLING CODE 6210-01-S